DEPARTMENT OF LABOR

Employment and Training Administration

[TA-W-54,076]

Oxford Drapery, Inc., Timmonsville, SC; Notice of Termination of Investigation

Pursuant to section 221 of the Trade Act of 1974, an investigation was initiated on January 26, 2004, in response to a petition filed by a company official on behalf of workers at Oxford Drapery, Inc., Timmonsville, South Carolina.

This petitioning group of workers is covered by an earlier petition filed on January 14, 2004 (TA-W-54,009), that is the subject of an ongoing investigation for which a determination has not yet been issued. Consequently, further investigation in this case would serve no purpose, and the investigation has been terminated.

Signed in Washington, DC, this 4th day of February, 2004.
Elliott S. Kushner,
Certifying Officer, Division of Trade Adjustment Assistance.

[FR Doc. 04-5083 Filed 3-5-04; 8:45 am]

BILLING CODE 4510-30-P